DEPARTMENT OF AGRICULTURE

Food Safety and Inspection Service

[Docket No. FSIS-2006-0001]

Codex Alimentarius Commission: Meeting of the Codex Committee on General Principles

AGENCY: Office of the Under Secretary for Food Safety, USDA.

ACTION: Notice of public meeting and request for comments.

SUMMARY: The Office of the Under Secretary for Food Safety, U.S. Department of Agriculture (USDA) is sponsoring a public meeting on March 21, 2006. The objective of the public meeting is to provide information and receive public comments on agenda items and draft United States positions that will be discussed at the 23rd Session of the Codex Committee on General Principles (CCGP) of the Codex Alimentarius Commission (Codex), which will be held in Paris, France, April 10-14, 2006. The Under Secretary for Food Safety recognizes the importance of providing interested parties the opportunity to obtain background information on the 23rd Session of CCGP and to address items on the agenda.

DATES: The public meeting is scheduled for Tuesday, March 21, 2006 from 1 p.m. to 4 p.m.

ADDRESSES: The public meeting will be held in Room 107-A, Jamie Lee Whitten Building, U.S. Department of Agriculture, 1400 Independence Avenue, SW., Washington, DC 20250. Documents related to the 23rd Session of the CCGP will be accessible via the World Wide Web at the following address: http://www.codexalimentarius.net/web/current.

FSIS invites interested persons to submit comments on this notice. Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the FDMS Docket Number FSIS-2006-0001 to submit or view public comments and to view supporting and related materials available electronically.

• Mail, including floppy disks or CD-ROMs, and hand- or courier-delivered items: Send to Docket Clerk, U.S. Department of Agriculture, Food Safety and Inspection Service, 300 12th Street, SW., Room 102 Cotton Annex Building, Washington, DC 20250.

• Electronic mail: fsis.regulationscomments@fsis.usda.gov. All submissions received must include the Agency name and docket number FSIS-2006-0001. All comments submitted in response to this notice, as well as research and background information used by FSIS in developing this document, will be posted to the regulations.gov Web site. The background information and comments also will be available for public inspection in the FSIS Docket Room at the address listed above between 8:30 a.m. and 4:30 p.m., Monday through Friday.

• In addition to submitting comments by mail to the above address, the U.S. Codex Office invites U.S. interested parties to submit their comments electronically to the following e-mail address (uscodex@fsis.usda.gov).

FOR FURTHER INFORMATION CONTACT: F. Edward Scarbrough, U.S. Manager for Codex, Food Safety and Inspection Service, U.S. Department of Agriculture, Washington, DC 20250, Phone: (202) 205-7760, Fax: (202) 720-3157. E-mail: escarbrough@fsis.usda,gov

For Further Information About the Public Meeting Contact: Jasmine Matthews, U.S. Codex Office, Food Safety and Inspection Service, Room 4861, South Building, 1400 Independence Avenue SW., Washington, DC 20250, Phone: (202) 205-7760, Fax: (202) 720-3157.

SUPPLEMENTARY INFORMATION:

Background

The Codex Alimentarius (Codex) was established in 1963 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on General Principles (CCGP) deals with rules and procedures referred to it by the Codex Alimentarius Commission including the establishment of principles which define the purpose and scope of the Codex Alimentarius and the nature of Codex standards. The development of mechanisms to address any economic impact statements is also the responsibility of the CCGP. The committee is hosted by the Government of the French Republic.

Issues To Be Discussed at the Public Meeting

The following items on the Agenda for the 23rd Session of the Committee will be discussed during the public meeting:

• Matters Referred to the Committee:

• Matters Referred by the Codex Alimentarius Commission and other Codex Committees.

• Matters arising from the last Session of the Committee on General Principles: Management of the Work of the Codex Committee on Food Hygiene.

• Proposed Draft Working Principles for Risk Analysis for Food Safety.

• Proposed Draft Revised Code of Ethics for International Trade in Foods.

• Proposed Amendments to the Rules of Procedure:

• Duration of the term of office of the Members of the Executive Committee.

• Respective roles of the Regional Coordinators and the Members of the Executive Committee elected on a geographic basis.

• Review of the Procedures for the Elaboration of Codex Standards and Related Texts:

• Proposed amendments to the Procedures (proposal from India).

• Review of the Guide to the Consideration of Standards at Step 8 of the Procedure for the Elaboration of Codex Standards and Related Texts, including consideration of any Statement Relating to Economic Impact; Guide to the Procedure for the Revision and arrangements for the Amendment of Codex Standards Elaborated by Codex Committees which have adjourned sine die.

• Review of the General Principles of the Codex Alimentarius.

• Consideration of the term “interim” as relates to the adoption of Codex standards and related texts.

• Proposed new definitions of risk analysis terms related to food safety (proposal from New Zealand).

• Consideration of the Structure and Presentation of the Procedural Manual.

Each issue listed will be fully described in documents distributed, or to be distributed, by the French Secretariat prior to the Meeting. Members of the public may access or request copies of these documents (see ADDRESSES).

Public Meeting

At the March 21st public meeting, draft U.S. positions on these agenda items will be described, discussed, and attendees will have the opportunity to pose questions and offer comments. Written comments may be offered at the meeting or sent to the U.S. Codex Office (see ADDRESSES). Written comments should state that they relate to activities of the 23rd Session of the CCGP.

Additional Information

Public awareness of all segments of rulemaking and policy development is important. Consequently, in an effort to ensure that the public and in particular minorities, women, and persons with disabilities are aware of this notice, FSIS will announce it online through the FSIS Web page located at http://www.fsis.usda.gov/regulations/2006_Notices_Index/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update is available on the FSIS Web page. Through Listserv and the web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC, on February 14, 2006.
F. Edward Scarbrough,
U.S. Manager for Codex Alimentarius.

[FR Doc. E6-2683 Filed 2-24-06; 8:45 am]

BILLING CODE 3410-DM-P